DEPARTMENT OF AGRICULTURE

Commodity Credit Corporation

Rural Business-Cooperative Service

[Docket ID RBS-20-Business-0002]

Request for Information on a Higher Blends Infrastructure Incentive Program

AGENCY: Rural Business-Cooperative Service and the Commodity Credit Corporation, USDA.

ACTION: Notice of request for information (RFI) for a Higher Blends Infrastructure Incentive Program (HBIIP).

SUMMARY: The United States Department of Agriculture requests input from all interested parties on a Higher Blends Infrastructure Incentive Program (HBIIP). The Department Agency is exploring options to expand domestic ethanol and biodiesel availability and is seeking information on opportunities to consider infrastructure projects to facilitate increased sales of higher biofuel blends (E15/B20 or higher.) This effort will build on biofuels infrastructure investments and experience gained through the Biofuels Infrastructure Partnership (BIP). USDA administered BIP from 2016-2019 through state and private partners to expand the availability of E15 and E85 infrastructure to make available higher ethanol blends at retail gas stations around the country.

DATES: Interested persons are invited to submit comments on or before 11:59 p.m. Eastern Time on January 30, 2020. Comments received after the posted deadline will not be considered, regardless of postmark.

ADDRESSES: Comments submitted in response to this notice may be submitted online Via the Federal eRulmaking Portal. Go to http://www.regulations.gov and search for the Docket ID RBS-20-Business-0002. Follow the online instructions for submitting comments.

All comment received will be posted without change and publicly available on www.regulations.gov.

FOR FURTHER INFORMATION CONTACT: Mark Brodziski: telephone (202)690-4730, email: mark.brodziski@usda.gov. Persons with disabilities that require alternative means for communication should contact the U.S. Department of Agriculture (USDA) Target Center at (202)720-2600 (voice).

SUPPLEMENTARY INFORMATION:

Overview

This Request for Information (RFI) solicits information on options for fuel ethanol and biodiesel infrastructure, innovation, products, technology, and data derived from all HBIIP processes and/or science that drive economic growth, promote health, and increase public benefit. Through this RFI, USDA seeks input from the public, including but not limited to: (a) Retail fueling stations, convenience stores, hypermarket fueling stations, fleet facilities, and similar entities with capital investments; (b) equipment providers, equipment installers, certification entities and other stakeholder/manufacturers (both upstream and down); (c) fuel distribution centers, including terminals and depots; and (d) those performing innovative research, and/or developing enabling platforms and applications in manufacturing, energy production, and agriculture.

This RFI is intended to inform notable gaps, vulnerabilities, and areas to promote and protect in the HBIIP that may benefit from Federal government attention. The information can include suggestions on those areas of greatest priority within the HBIIP, as well as past or future Federal government efforts to build, promote, and sustain the sale and use of renewable fuels. The public input provided in response to this RFI will inform USDA as well as private sector and other stakeholders with interest in and expertise relating to such a promotion.

Instructions

Response to this RFI is voluntary. Each individual or institution is requested to submit only one response as directed in the ADDRESSES section of this notice. Submission must not exceed 10 pages in 12 point or larger font, with a page number provided on each page. Responses should include the name of the person(s) or organization(s) filing the comment. Comments containing references, studies, research, and other empirical data that are not widely published should include copies or electronic links of the referenced materials. Comments containing profanity, vulgarity, threats, or other inappropriate language or content will not be considered. Comments submitted in response to this notice are subject to Freedom of Information Act (FOIA). Responses to this RFI may also be posted, without change, on a Federal website.

Therefore, we request that no business proprietary information, copyrighted information, or personally identifiable information be submitted in response to this RFI. In accordance with FAR 15-202(3), responses to this notice are not offers and cannot be accepted by the Government to form a binding contract. Additionally, the U.S. Government will not pay for response preparation or for the use of any information contained in the response.

To inform the Federal government's decision-making and establish the Nation's guiding principles in the promotion of the HBIIP, USDA now seeks public input on how U.S. Government action might support appropriately the expansion of a nationwide effort. To that end, responders are specifically requested to answer one or more of the following questions in their submissions. Consortia responses are also encouraged.

1. What type of assistance/incentive would encourage the increased sales/use of fuel ethanol and/or biodiesel in a way that is most cost-effective to the government?

a. Should a potential biofuels infrastructure program incentivize the lowest cost per incremental gallon of ethanol or biodiesel use/sales at the retail/fueling station level or terminal/depot/wholesale level or both retail/fueling station and terminal/depot/wholesale levels?

b. What types of equipment and infrastructure should be eligible under the program?

2. Should program funding provided to participants include: (a) Direct cost-share toward purchase of equipment, retrofitting, and enhancements; (b) higher blend biofuel sales or marketing incentives; (c) both; or (d) other?

3. Should the program include minimum standards for equipment, such as equipment certified to dispense biofuel blends containing 25 percent ethanol (certified for use with E15) and/or B20-compatable or higher biofuel blend dispensers?

4. From your perspective, what types of efforts have proven to be effective in increasing higher biofuel blends sales?

a. What are the most appropriate higher biofuel blend levels (for both ethanol and biodiesel) that the program should be incentivizing?

b. Should there be a minimum requirement on the number or percentage of dispensers converted to higher biofuel blends at a retail site or fueling station?

c. Should there be a requirement for certain dispenser configurations such as shared hoses (as practicable and allowed by law, for higher biofuel blends to share a pump hose with existing fuels)?

d. Should there be a requirement for signage (as allowed by law) and marketing?

e. Should USDA insist on consistent terminology and branding and naming of E15 and/or B20 or other higher biofuel blends?

5. From your perspective, if cost-sharing is required, what minimum level of cost-share (owner contribution) should be required of recipients of funding? What would you consider to be the most cost-effective level of cost-share?

6. What steps should a potential biofuels program take to ensure equitable program participation by small- to mid-sized station owners? (That is, owners of less than 10 to less than 20 sites/stations. We are especially interested to hear from small- to midsized station owners on this question.)

7. From your perspective, how much post-award reporting is reasonable for recipients of funding? e.g. quarterly or annual reporting of higher blend fuel sales by the participant?

8. What other barriers exist that limit expansion of availability of biofuels to consumers? What specific actions could USDA take to guide a transformation and/or expansion of a nationwide biofuels-infrastructure program, in both the short- and long-term?

9. To what extent should infrastructure investments made today be required to accommodate fuels anticipated to be in the marketplace of tomorrow?

10. Please provide feedback on the effectiveness of the 2015-2019 Biofuels Infrastructure Partnership (BIP) program.

Robert Stephenson,
Executive Vice President, Commodity Credit Corporation.
Bette B. Brand,
Administrator, Rural Business-Cooperative Service.

[FR Doc. 2020-00617 Filed 1-15-20; 8:45 am]

BILLING CODE 3410-XY-P